DEPARTMENT OF ENERGY

Federal Energy Regulatory Commission

[Docket No. CP00-117-000 and CP00-117-001]

Southern Natural Gas Company; South Georgia Natural Gas Company; Notice of Joint Application

March 17, 2000.

Take notice that on March 10, 2000, Southern Natural Gas Company (Southern), Post Office Box 2563, Birmingham, Alabama 35202-2563 and South Georgia Natural Gas Company (South Georgia) Post Office Box 2563, Birmingham, Alabama 35202-2563, filed in Docket No. CP00-117-000 a joint application pursuant to Sections 7(c) and 7(b) of the Natural Gas Act (NGA) and part 157 of the Commission's regulations, for a certificate of public convenience and necessity for Southern to acquire facilities and authorization for South Georgia to abandon facilities all as more fully set forth in the application which is on file with the Commission and open to public inspection.¹ The filing may be viewed at http://www.ferc.fed.us/online/rims.htm (call 202-208-2222 for assistance).

¹ This application is also incorporated in the Offer of Settlement filed by Southern pursuant to Rule 602 of the Commission's regulations (§ 385.602) in Docket No. RP99-496-004. The portion of the Offer of Settlement relating to the transfer of South Georgia's facilities to Southern has been docketed as CP00-117-001. Pursuant to Rule 602(d)(2) Southern states that it has notified all parties in the rate proceeding as all other persons required by Rule 602(d)(1) that Comments and Reply Comments on the Offer of Settlement are due to be filed by March 28, 2000, and Reply Comments are due to be filed by April 7, 2000.

Any questions regarding the application should be directed to Patrick Pope, General Counsel, Southern Natural Gas Company, Post Office Box 35202-2563, Birmingham, Alabama 35202-2563 or call (205) 325-7126.

Southern requests a certificate of public convenience and necessity pursuant to Section 7(c) of the NGA authorizing it to acquire the facilities of South Georgia, and South Georgia requests approval under Section 7(b) of the NGA to abandon all of its jurisdictional transmission facilities, operations, and certain services not subject to pre-granted abandonment. Southern and South Georgia state that the acquisition will be accomplished by a merger between Southern and South Georgia which is a wholly owned subsidiary of Southern. Further, they state that Southern will acquire South Georgia's assets at the original cost with the same accumulated depreciation and accumulated deferred income taxes as are currently reflected in South Georgia's books.

Southern avers that it will contact with the existing South Georgia customers to provide the same quality and type of service as South Georgia provides today, but under the terms and conditions of Southern's FERC Gas Tariff, as revised pursuant to this application and the Offer of Settlement. To implement the service, Southern and South Georgia seek: (1) Authorization for South Georgia to terminate Volumes I and II of its FERC Gas Tariff; (2) Authorization for Southern to revise its CSS-1, CSS-2, and STS Rate Schedules to incorporate the South Georgia ST-1 and ST-2 Rate Schedules into its First Revised Volume No. 2A of its FERC Gas Tariff; (3) Cancellation of South Georgia's Order No. 234 Blanket Certificate; and (4) Authorization for Southern to implement the changes to its tariff necessary to implement the terms of the certificate requested herein.

Southern and South Georgia state that the acquisition is part of an overall Offer of Settlement filed concurrently in Docket No. RP99-496-004 to resolve all outstanding issues in Southern's pending Section 4 rate proceeding and they request that the certificate application be processed concurrently with the Offer of Settlement. Southern and South Georgia request that the authorization requested herein take effect on August 1, 2000 and be conditioned upon the approval of the Offer of Settlement. If the settlement is not approved on terms acceptable to the parties thereto, Southern and South Georgia state that they will withdraw the certificate application.

Any person desiring to participate in the hearing process or to make any protest with reference to said application should on or before March 28, 2000, file with the Federal Energy Regulatory Commission, Washington, DC 20426, a motion to intervene or a protest in accordance with the requirements of the Commission's Rules of Practice and Procedure (18 CFR 385.214 or 385.211) and the Regulations under the NGA (18 CFR 157.10). All protests filed with the Commission will be considered by it in determining the appropriate action to be taken but will not serve to make the protestants parties to the proceeding. The Commission's rules require that protestors provide copies of their protests to the party or parties directly involved. Any person wishing to become a party to a proceeding or to participate as a party in any hearing therein must file a motion to intervene in accordance with the Commission's Rules.

Take further notice that, pursuant to the authority contained in and subject to the jurisdiction conferred upon the Federal Energy Regulatory Commission by sections 7 and 15 of the NGA and the Commission's Rules of Practice and Procedure, a hearing will be held without further notice before the Commission or its designee on this application if no motion to intervene is filed within the time required herein, if the Commission on its own review of the matter finds that a grant of the certificate is required by the public convenience and necessity. If a motion for leave to intervene is timely filed, or if the Commission on its own motion believes that a formal hearing is required, further notice of such hearing will be duly given.

Under the procedure provided for, unless otherwise advised, it will be unnecessary for Southern or South Georgia to appear or be represented at the hearing.

David P. Boergers,
Secretary.

[FR Doc. 00-7152 Filed 3-22-00; 8:45 am]

BILLING CODE 6717-01-M